DEPARTMENT OF ENERGY

Federal Energy Regulatory Commission

Combined Notice of Filings

Take notice that the Commission has received the following Natural Gas Pipeline Rate and Refund Report filings:

Filings Instituting Proceedings

Docket Numbers: RP15-870-000.

Applicants: Guardian Pipeline, L.L.C.

Description: Section 4(d) rate filing per 154.204: Negotiated Rate PAL Agreement: Koch Energy Services, LLC to be effective 4/10/2015.

Filed Date: 4/9/15.

Accession Number: 20150409-5045.

Comments Due: 5 p.m. ET 4/21/15.

Docket Numbers: RP15-871-000.

Applicants: Natural Gas Pipeline Company of America.

Description: Section 4(d) rate filing per 154.204: Negotiated Rate—BP Energy to be effective 5/1/2015.

Filed Date: 4/9/15.

Accession Number: 20150409-5078.

Comments Due: 5 p.m. ET 4/21/15.

Docket Numbers: RP15-872-000.

Applicants: Guardian Pipeline, L.L.C.

Description: Section 4(d) rate filing per 154.204: Clean Up of Summary of Non-Conforming and Negotiated Rate Agreements to be effective 5/1/2015.

Filed Date: 4/9/15.

Accession Number: 20150409-5129.

Comments Due: 5 p.m. ET 4/21/15.

Docket Numbers: RP15-873-000.

Applicants: Empire Pipeline, Inc.

Description: Section 4(d) rate filing per 154.204: Reservation Charge Credits and ROFR to be effective 5/9/2015.

Filed Date: 4/9/15.

Accession Number: 20150409-5166.

Comments Due: 5 p.m. ET 4/21/15.

Docket Numbers: RP15-874-000.

Applicants: Tres Palacios Gas Storage LLC.

Description: Section 4(d) rate filing per 154.204: Tres Palacios Gas Storage LLC—Tariff Changes to be effective 5/10/2015.

Filed Date: 4/10/15.

Accession Number: 20150410-5158.

Comments Due: 5 p.m. ET 4/22/15.

Docket Numbers: RP15-875-000.

Applicants: Alliance Pipeline L.P.

Description: Section 4(d) rate filing per 154.204: April 14-28, 2015 to be effective 4/14/2015.

Filed Date: 4/10/15.

Accession Number: 20150410-5167.

Comments Due: 5 p.m. ET 4/22/15.

Docket Numbers: RP15-876-000.

Applicants: Enable Gas Transmission, LLC.

Description: Section 4(d) rate filing per 154.204: Negotiated Rate Filing- April 2015- LER 0222 Att A to be effective 4/14/2015.

Filed Date: 4/10/15.

Accession Number: 20150410-5216.

Comments Due: 5 p.m. ET 4/22/15.

Docket Numbers: RP15-877-000.

Applicants: Enable Mississippi River Transmission, L.

Description: Section 4(d) rate filing per 154.204: Negotiated Rate Filing to Amend LER 5680's Attachment A_4-10-15 to be effective 4/10/2015.

Filed Date: 4/10/15.

Accession Number: 20150410-5266.

Comments Due: 5 p.m. ET 4/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2015.
Nathaniel J. Davis, Sr.,
Deputy Secretary.

[FR Doc. 2015-09042 Filed 4-20-15; 8:45 am]

BILLING CODE 6717-01-P